DEPARTMENT OF THE INTERIOR

Minerals Management Service

Agency Information Collection Activities: Submitted for Office of Management and Budget (OMB) Review; Comment Request

AGENCY: Minerals Management Service (MMS), Interior.

ACTION: Notice of extension of a currently approved information collection (OMB Control Number 1010-0058).

SUMMARY: To comply with the Paperwork Reduction Act of 1995 (PRA), we are submitting to OMB for review and approval an information collection request (ICR), titled “30 CFR 250, Subpart I, Platforms and Structures.” We are also soliciting comments from the public on this ICR.

DATES: Submit written comments by September 5, 2001.

ADDRESSES: You may submit comments directly to the Office of Information and Regulatory Affairs, OMB, Attention: Desk Officer for the Department of the Interior (1010-0058), 725 17th Street, N.W., Washington, D.C. 20503. Mail or hand carry a copy of your comments to the Department of the Interior, Minerals Management Service, Attention: Rules Processing Team, Mail Stop 4024, 381 Elden Street; Herndon, Virginia 20170-4817. If you wish to e-mail comments, the e-mail address is: rules.comments@mms.gov. Reference “Information Collection 1010-0058” in your e-mail subject line. Include your name and return address in your e-mail message and mark your message for return receipt.

Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain at no cost a copy of our submission to OMB, which includes the regulations that require this information to be collected.

SUPPLEMENTARY INFORMATION: Title: 30 CFR 250, Subpart I, Platforms and Structures.

OMB Control Number: 1010-0058.

Abstract: The Outer Continental Shelf (OCS) Lands Act, 43 U.S.C. 1331 et seq., gives the Secretary of the Interior (Secretary) the responsibility to preserve, protect, and develop oil and gas resources in the OCS in a manner that is consistent with the need to make such resources available to meet the Nation's energy needs as rapidly as possible; balance orderly energy resource development with protection of human, marine, and coastal environments; ensure the public a fair and equitable return on offshore resources in the OCS; and preserve and maintain free enterprise competition. Specifically, the OCS Lands Act (43 U.S.C. 1356) requires the issuance of “* * * regulations which require that any vessel, rig, platform, or other vehicle or structure—* * * (2) which is used for activities pursuant to this subchapter, comply, * * * with such minimum standards of design, construction, alteration, and repair as the Secretary * * * establishes; * * *.” The OCS Lands Act (43 U.S.C. 1332(6)) also states, “operations in the [O]uter Continental Shelf should be conducted in a safe manner * * * to prevent or minimize the likelihood of * * * physical obstruction to other users of the water or subsoil and seabed, or other occurrences which may cause damage to the environment or to property, or endanger life or health.” These authorities and responsibilities are among those delegated to MMS under which we issue regulations to ensure that operations in the OCS will meet statutory requirements; provide for safety and protection of the environment; and result in diligent exploration, development, and production of OCS leases. This information collection request addresses the regulations at 30 CFR 250, subpart I, Platforms and Structures, and the associated supplementary notices to lessees and operators intended to provide clarification, description, or explanation of these regulations.

The MMS OCS Regions use the information submitted under subpart I to determine the structural integrity of all offshore structures and ensure that such integrity will be maintained throughout the useful life of these structures. We use the information to ascertain, on a case-by-case basis, that the platforms and structures are structurally sound and safe for their intended use to ensure safety of personnel and pollution prevention. The information is also necessary to assure that abandonment and site clearance are properly performed. More specifically, we use the information to:

• Review information concerning damage to a platform to assess the adequacy of proposed repairs.

• Review plans for platform construction (construction is divided into three phases—design, fabrication, and installation) to ensure the structural integrity of the platform.

• Review verification plans and reports for unique platforms to ensure that all nonstandard situations are given proper consideration during the design, fabrication, and installation phases of platform construction.

• Review platform design, fabrication, and installation records to ensure that the platform is constructed according to approved plans.

• Review inspection reports to ensure that platform integrity is maintained for the life of the platform.

• Ensure that any object (wellheads, platforms, etc.) installed on the OCS is properly removed and the site cleared so as not to conflict with or harm other users of the OCS.

Responses are mandatory. No questions of a “sensitive” nature are asked. MMS will protect proprietary information according to the Freedom of Information Act (5 U.S.C. 552) and its implementing regulations (43 CFR 2), 30 CFR 250.196 (Data and information to be made available to the public) and 30 CFR part 252 (OCS Oil and Gas Information Program).

Frequency: The frequency varies by section, but is generally “on occasion” or annual.

Estimated Number and Description of Respondents: Approximately 130 Federal OCS oil and gas or sulphur lessees.

Estimated Annual Reporting and Recordkeeping “Hour” Burden: The following chart details the components of the hour burden for the information collection requirements in subpart I—an estimated total of 30,824 burden hours. In estimating the burdens, we assumed that respondents perform certain requirements in the normal course of their activities. We consider these to be usual and customary and took that into account in estimating the burden.

Citation 30 CFR 250 Subpart I | Reporting or recordkeeping requirement | Hour burden per requirement
Reporting Requirements
900(b), (g); 901; 902; 909(b)(4)(iii) | Submit application and plans for new platform or major modifications and notice to MMS | 24 hours.
900(e) | Request approval for major repairs of damage to platform and notice to MMS | 16 hours.
900(f) | Request approval for reuse or conversion of use of existing fixed or mobile platforms | 24 hours.
901(e) | Notify MMS before transporting platform to installation site | 10 minutes.
903(a), (b) | Submit nominations for Certified Verification Agent (CVA) | 16 hours.
903(a)(1), (2), (3) | Submit interim and final CVA reports. | 200 hours.
912(a) | Request inspection interval that exceeds 5 years | 16 hours.
912(b) | Submit annual report of platforms inspected and summary of testing results. | 45 hours.
913(a), (b), Related NTLs | Submit plan for platform and structure removal and site clearance and exception requests | 8 hours.
913(c), Related NTLs | Submit results of location clearance survey. | 12 hours.
900-914 | General departure and alternative compliance requests not specifically covered elsewhere in subpart I regulations | 8 hours.
Recordkeeping Requirements
909, 911, 912, 914 | Maintain records on as-built structural drawings, design assumptions and analyses, summary of nondestructive examination records, inspection results, etc., for the functional life of the platform. | 50 hours.

Estimated Annual Reporting and Recordkeeping “Non-Hour Cost” Burden: We have identified no “non-hour cost” burdens.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 8, 2001, we published a Federal Register notice (66 FR 13959) announcing that we would submit this ICR to OMB for approval. The notice provided the required 60-day comment period. In addition, § 250.199 displays the OMB control numbers for the information collection requirements imposed by the 30 CFR part 250 regulations and forms; specifies that the public may comment at anytime on these collections of information; and provides the address to which they should send comments. We have received no comments in response to these efforts. We also consulted with several respondents and the foregoing chart reflects adjustments for some of the requirement hour burdens as a result of those consultations.

If you wish to comment in response to this notice, send your comments directly to the offices listed under the ADDRESSES section of this notice. The OMB has up to 60 days to approve or disapprove the information collection but may respond after 30 days. Therefore, to ensure maximum consideration, OMB should receive public comments by September 5, 2001. The PRA provides that an agency may not conduct or sponsor, and a person is not required to respond to, a collection of information unless it displays a currently valid OMB control number.

MMS Information Collection Clearance Officer: Jo Ann Lauterbach, (202) 208-7744.

Dated: May 23, 2001.
John V. Mirabella,
Acting Chief, Engineering and Operations Division.

[FR Doc. 01-19611 Filed 8-3-01; 8:45 am]

BILLING CODE 4310-MR-P